DEPARTMENT OF HOMELAND SECURITY

Coast Guard

33 CFR Part 165

[CGD09-07-123]

RIN 1625-AA00

Safety Zone; Chicago Harbor, Navy Pier East, Chicago, IL

AGENCY: Coast Guard, DHS.

ACTION: Notice of enforcement of regulation.

SUMMARY: The Coast Guard will enforce the Navy Pier East Safety Zone in Chicago Harbor on October 15, 2007. This action is necessary to protect vessels and people from the hazards associated with fireworks displays. This safety zone will temporarily restrict vessel traffic from a portion of Chicago Harbor.

DATES: The regulations in 33 CFR 165.933 will be enforced from 8 p.m. to 10 p.m. on October 15, 2007.

FOR FURTHER INFORMATION CONTACT: CWO Brad Hinken, Prevention Department, Coast Guard Sector Lake Michigan, Milwaukee, WI at (414) 747-7154.

SUPPLEMENTARY INFORMATION: The Coast Guard will enforce the Navy Pier East Safety Zone in Chicago Harbor, Chicago, IL, in 33 CFR 165.933, for the Experian Event on October 15, 2007 from 8 p.m. to 10 p.m. These regulations can be found in the June 13, 2007 issue of the Federal Register (72 FR 32524).

All vessels must obtain permission from the Captain of the Port or his on-scene representative to enter, move within or exit the safety zone. Vessels and persons granted permission to enter the safety zone shall obey all lawful orders and directions of the Captain of the Port or a designated representative. While within a safety zone, all vessels shall operate at the minimum speed necessary to maintain a safe course.

This notice is issued under authority of 33 CFR 165.933 and 5 U.S.C. 552(a). In addition to this notice in the Federal Register, the Coast Guard will provide the maritime community with advance notification of these enforcement periods via broadcast Notice to Mariners and Local Notice to Mariners.

The Captain of the Port will issue a Broadcast Notice to Mariners notifying the public when enforcement of this safety zone is suspended. The Captain of the Port may be contacted via U.S. Coast Guard Sector Detroit on channel 16, VHF-FM.

Dated: September 24, 2007.
Bruce C. Jones,
Captain, U.S. Coast Guard, Captain of the Port Lake Michigan.

[FR Doc. E7-20309 Filed 10-15-07; 8:45 am]

BILLING CODE 4910-15-P